DEPARTMENT OF TRANSPORTATION

Federal Aviation Administration

Airport Privatization Pilot Program

AGENCY: Federal Aviation Administration (FAA), DOT.

ACTION: Notice of Acceptance for Review: Preliminary Application for Rafael Hernandez Airport, Aguadilla, Puerto Rico.

SUMMARY: The Federal Aviation Administration (FAA) has completed its review of the Rafael Hernandez Airport (BQN) preliminary application for participation in the airport privatization pilot program. The preliminary application is accepted for review, with a filing date of December 20, 1999. The Puerto Rico Ports Authority, the airport sponsor, may select a private operator, negotiate an agreement and submit a final application to the FAA for exemption under the pilot program.

49 U.S.C. Section 47134 establishes an airport privatization pilot program and authorizes the Department of Transportation to grant exemptions from certain Federal statutory and regulatory requirements for up to five airport privatization projects. The application procedures require the FAA to publish a notice in the Federal Register after review of the preliminary application in the Federal Register for public review and comment for a sixty-day period. The BQN preliminary application is available for public review in the Federal Aviation Administration, Office of Chief Counsel, Attention: Rules Docket (AGC-200), 800 Independence Avenue, SW., Washington, DC 20591.

FOR FURTHER INFORMATION CONTACT: Kevin C. Willis (202-267-8741) Airport Compliance Division, AAS-400, Federal Aviation Administration, 800 Independence Ave. SW., Washington, DC 20591.

SUPPLEMENTARY INFORMATION:

Introduction and Background

Section 149 of the Federal Aviation Administration Authorization Act of 1996, Pub. L. 104-264 (October 9, 1996) (1996 Reauthorization Act), adds a new Section 47134 to Title 49 of the U.S. Code Section 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues to airport-related purposes, to pay back a portion of Federal grants upon the sale of an airport, and to return airport property deeded by the Federal Government upon transfer of the airport. The Administrator is also authorized to exempt the private purchaser or lessee from the requirement to use all airport revenues for airport-related purposes, to the extent necessary to permit the purchaser or lessee to earn compensation from the operations of the airport.

On September 16, 19997, the Federal Aviation Administration issued a notice of procedures to be use din applications for exemption under Airport Privatization Pilot Program (62 FR 48693). A request for participation in the Pilot Program must be initiated by the filing of either a preliminary or final application for exemption with the FAA.

The Puerto Rico Ports Authority issued its RFP on November 22, 1999, for Rafael Hernandez Airport, Aguadilla, Puerto Rico and has not selected a private operator. The filing date of this preliminary application is December 20, 1999. This is the fourth preliminary application accepted under the pilot program. The Authority may select a private operator, negotiate an agreement and submit a final application to the FAA for exemption.

If FAA accepts the final application for review, the application will be published in the Federal Register for public review and comment for a sixty-day period.

Issued in Washington, DC on February 1, 2000.
Paul L. Galis,
Deputy Associate Administrator for Airports.

[FR Doc. 00-3823 Filed 2-23-00; 8:45 am]

BILLING CODE 4910-13-M